COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List products and services to be furnished by nonprofit agencies employing persons who are blind or have other severe disabilities, and to delete products and services previously furnished by such agencies.

Comments Must be Received on or Before: August 20, 2006.

ADDRESSES: Committee for Purchase From People Who Are Blind or Severely Disabled, Jefferson Plaza 2, Suite 10800, 1421 Jefferson Davis Highway, Arlington, Virginia 22202-3259.

For Further Information or to Submit Comments Contact: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Product/NSN: SKILCRAFT Toothpicks—200 ct. 8415-B51-0425 .

NPA: Winston-Salem Industries for the Blind, Winston-Salem, North Carolina.

Contracting Activity: AAFES, Dallas, Texas.

Product/NSN: Spice Blend, All Purpose Seasoning w/o Salt.

8950-01-E60-9456—Spice Blend, All Purpose w/o Salt, 2.5 oz.

8950-01-E60-9457—Spice Blend, All Purpose w/o Salt 6.75 oz.

8950-01-E60-9458—Spice Blend, All Purpose w/o Salt 10 oz.

8950-01-E60-9459—Spice Blend, All Purpose w/o Salt 20 oz.

8950-01-E60-9460—Spice Blend, All Purpose w/o Salt 28 oz.

Product/NSN: Spice Blend, Chili Powder.

8950-01-E60-9461—Spice Blend, Chili Powder 16 oz.

8950-01-E60-9462—Spice Blend, Chili Powder 17 oz.

8950-01-E60-9463—Spice Blend, Chili Powder 18 oz.

8950-01-E60-9464—Spice Blend, Chili Powder 20 oz.

8950-01-E60-9465—Spice Blend, Chili Powder 5 lbs.

Product/NSN: Spice Blend, Lemon Pepper.

8950-01-E60-9147—Lemon Pepper 6-28 oz poly.

8950-01-E60-9466—Spice Blend, Lemon Pepper 26 oz.

8950-01-E60-9467—Spice Blend, Lemon Pepper 27 oz.

Product/NSN: Spice, Cinnamon.

8950-01-E60-9150—Cinnamon, Ground 6-16 oz poly.

8950-01-E60-9468—Spice Blend, Cinnamon, Maple Sprinkle, 30 oz.

8950-01-E60-9469—Spice, Cinnamon, Ground 15 oz.

8950-01-E60-9470—Spice, Cinnamon, Ground 18 oz.

8950-01-E60-9471—Spice, Cinnamon, Ground 5 lbs.

8950-01-E60-9472—Spice, Cinnamon, Stick, whole 8 oz.

NPA: Continuing Developmental Services, Inc., Fairport, New York.

Contracting Activity: Defense Supply Center Philadelphia, Philadelphia, Pennsylvania.

Services

Service Type/Location: Facilities Management, Air Force Space Command, Los Angeles Air Force Base, El Segundo, California.

NPA: PRIDE Industries, Inc., Roseville, California.

Contracting Activity: 61st Contracting Squadron/LGCC, El Segundo, California.

Service Type/Location: Grounds Maintenance, Port Isabel Detention Center, 27991 Buena Vista Road, Los Fresnos, Texas.

NPA: Mavagi Enterprises, Inc., San Antonio, Texas.

Contracting Activity: DHS Immigration and Customs Enforcement, Dallas, Texas.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

Product/NSN: Binder, Note Pad.

7510-00-NIB-0195.

NPA: New York City Industries for the Blind, Inc., Brooklyn, New York.

NPA: ForSight Vision, York, Pennsylvania.

Contracting Activity: Office Supplies & Paper Products Acquisition Center, New York, New York.

Product/NSN: Card Set, Guide, File.

7530-01-175-1553.

NPA: Georgia Industries for the Blind, Bainbridge, GA.

Contracting Activity: Office Supplies & Paper Products Acquisition Center, New York, New York.

Product/NSN: Case, Carrying.

1220-00-765-5870.

1220-00-937-8286.

NPA: Arizona Industries for the Blind, Phoenix, Arizona.

Contracting Activity: U.S. Army Field Artillery Center & Fort Sill, Fort Sill, Oklahoma.

Product/NSN: Chock Wheel.

1730-00-NIB-001A (2″ x 4″ x 8″).

1730-00-NIB-001B (6″ x 8″ x 18″).

1730-00-NIB-001C (6″ x 8″ x 76″).

1730-00-NIB-001D (8″ x 12″).

1730-00-NIB-001E (10″ x 20″).

NPA: The Oklahoma League for the Blind, Oklahoma City, Oklahoma.

Contracting Activity: Defense Supply Center Richmond, Richmond, Virginia.

Product/NSN: Detergent, General Purpose.

7930-01-055-6122.

NPA: Lighthouse for the Blind of Houston, Houston, Texas.

Contracting Activity: GSA, Southwest Supply Center, Fort Worth, Texas.

Product/NSN: Inking Pad, Rubber Stamp.

7510-01-431-6515.

NPA: Cattaraugus County Chapter, NYSARC, Olean, New York.

Contracting Activity: Office Supplies & Paper Products Acquisition Center, New York, New York.

Product/NSN: Insert, Foam, Laminated.

8135-00-NSH-0004.

NPA: Goodwill Industries of the Columbia Willamette, Portland, Oregon.

Contracting Activity: Bureau of the Mint, Department of the Treasury, Washington, DC.

Product/NSN: Splint, Pneumatic.

6515-00-935-6592.

6515-00-935-6593.

NPA: The Lighthouse for the Blind, Inc. (Seattle Lighthouse), Seattle, Washington.

Contracting Activity: Defense Supply Center Philadelphia, Philadelphia, Pennsylvania.

Services

Service Type/Location: Custodial Services, U.S. Border Patrol Station, U.S. Customs House, I-29 at Canadian Border, Pembina, North Dakota.

NPA: The Home Place Corporation, Grand Forks, North Dakota.

Contracting Activity: GSA, PBS Region 8, Denver, Colorado.

Service Type/Location: Parts Sorting, McClellan, California.

NPA: PRIDE Industries, Inc., Roseville, California.

Contracting Activity: Department of the Air Force.

G. John Heyer,
General Counsel.

[FR Doc. E6-11617 Filed 7-20-06; 8:45 am]

BILLING CODE 6353-01-P